DEPARTMENT OF AGRICULTURE

Forest Service

Hood and Willamette Resource Advisory Committee

AGENCY: Forest Service, USDA.

ACTION: Notice of meeting.

SUMMARY: The Hood and Willamette Resource Advisory Committee (RAC) will meet in Salem, Oregon. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following Web site: http://www.fs.usda.gov/detail/willamette/workingtogether/advisorycommittees/?cid=STELPRDB5048434.

DATES: The meeting will be held on July 6, 2016, beginning at 10:00 a.m.

All RAC meetings are subject to cancellation. For status of meeting prior to attendance, please contact the person listed under FOR FURTHER INFORMATION CONTACT.

ADDRESSES: The meeting will be held at the Bureau of Land Management, Salem District, 1717 Fabry Rd. SE., Salem, Oregon.

Written comments may be submitted as described under SUPPLEMENTARY INFORMATION. All comments, including names and addresses when provided, are placed in the record and are available for public inspection and copying. The public may inspect comments received at the Willamette National Forest Supervisor's Office. Please call ahead to facilitate entry into the building.

FOR FURTHER INFORMATION CONTACT: Jennifer Lippert, RAC Coordinator, by phone at 541-225-6440 or via email at jlippert@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Familarize RAC members with each other;

2. Review Secure Rural School rules and regulations pertaining to the Title II process; and

3. Make decisions on proposals submitted for FY2015 Title II funds.

The meeting is open to the public. The agenda will include review of proposals and recommended funding levels and voting on final funding recommendations.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case by case basis.

Dated: May 6, 2016.
Tracy Beck,
Forest Supervisor.

[FR Doc. 2016-14143 Filed 6-14-16; 8:45 am]

BILLING CODE 3411-15-P